DEPARTMENT OF COMMERCE

National Oceanic and Atmospheric Administration

[Docket No.021202295-2295-01]

Global Ocean Data Assimilation Experiment (GODAE)

AGENCY: National Oceanic and Atmospheric Administration, Department of Commerce.

ACTION: Notice of request for proposals.

SUMMARY: The purpose of this notice is to advise the public that the National Oceanic and Atmospheric Administration (NOAA), on behalf of the National Oceanographic Partnership Program (NOPP), is entertaining preliminary proposals (Letters of Intent) and subsequently full proposals for implementing the initial, pre-operational U.S. contribution(s) to the Global Ocean Data Assimilation Experiment. These efforts are a Pilot Project under Ocean.US, the National Office for Integrated and Sustained Ocean Observations, intended to lead to sustained operational efforts supported by U.S. agencies such as NOAA and the U.S. Navy. The NOPP was established by 10 U.S.C. 7902 et seq. to (1) promote the national goals of assuring national security, advancing economic development, protecting quality of life, and strengthening science education and communication through improved knowledge of the ocean; and (2) coordinate and strengthen oceanographic efforts in support of those goals by identifying and carrying out partnerships among Federal agencies, academia, industry, and other members of the oceanographic scientific community in the areas of data, resources, education, and communication. In FY 2003, NOPP intends to begin a program to demonstrate the value of near-real-time, ocean data assimilation. Contingent on the availability of appropriated funds, this program is expected to continue for three to five years. The level of funding available each year will be dependent on appropriations. It is expected that approximately $1,500,000 will be available for the first year of the project, approximately $2,500,000 for the second year, and up to $4,500,000 for the third year. It is expected that the level of funding for the third year will continue for two additional years, depending on progress. Proposals should be written as three-year efforts with options to continue in years four and five should progress be satisfactory.

DATES: January 10, 2003, 5 pm (EST)—Letter of Intent in electronic, facsimile, or hard copy form due. Letters of Intent are used for assessment purposes only and are not a requirement for proposal submission.

February 24, 2003, 5 pm (EST)—Full proposal in electronic or hard copy form due. The proposal must clearly delineate each partner's efforts and the associated request(s) for NOPP funds as well as any cost-sharing that may be offered. (Cost- or resource-sharing is not required in any response to this announcement.) The same proposal will implement funding of all partners in the proposed effort, if selected, thus, separate budgets within the single proposal will be required if more than one funding action is needed.

Unsuccessful applications will be destroyed.

June 1, 2003 (approximate)—Funds awarded to selected recipients. Program begins.

ADDRESSES: Because of potential delays and/or damage in mailing or shipment of hard copy submissions, electronic submissions of Letters of Intent (LOI) and Proposals are strongly encouraged. Electronic submissions must be in PDF format. Electronic submissions in other than PDF format will not be accepted. Electronic submissions must be directed to the National Oceanographic Partnership Program at http://www.onr.navy.mil/sci_tech/ocean/GODAE_NOAA.htm; ATTN: Stephen R. Piotrowicz. Letters of Intent submitted by facsimile must be directed to Ocean.US, ATTN: Stephen R. Piotrowicz at 703-588-0872. Letters of Intent and Proposals submitted in hard copy form must be submitted to: Ocean.US, 2300 Clarendon Blvd., Suite 1350, Arlington, VA 22201; ATTN: Dr. Stephen R. Piotrowicz. Proposals submitted in hard copy form should contain one original plus two copies of the full proposal. If color and/or grayscale graphics are included in the proposal, and offerer feels that color or grayscale graphics would be necessary for the review process, the offerer may submit twelve additional copies of the graphics.

FOR FURTHER INFORMATION CONTACT: Dr. Stephen R. Piotrowicz, telephone: (703) 588-0850; facsimile: (703) 588-0872; internet: Steve.Piotrowicz@noaa.gov.

SUPPLEMENTARY INFORMATION:

I. Program Authority

Authority: 49 U.S.C. 44720 (b); 33 U.S.C. 883d; 15 U.S.C. 2904; 15 U.S.C. 2934, (CFDA No. 11.431)—Climate and Atmospheric Research.

II. Program Description

Background

The Global Ocean Data Assimilation Experiment (GODAE) is a one-time pilot project to demonstrate the feasibility and practicality of near real-time global ocean data assimilation and numerical modeling for: (a) Short range open ocean forecasts; (b) boundary conditions to extend predictability of coastal regimes; (c) initialize climate forecast models; and (d) research during the period 2003 to 2007. GODAE has been in planning for at least five years. Within the international community this has culminated in the preparation of both a Strategic Plan and an Implementation Plan (http://www.bom.gov.au.GODAE/IP/Plan.htm). NOPP has provided substantial funding for a number of U.S. GODAE-preparatory and GODAE-related activities, which have established a foundation upon which we now wish to build as GODAE moves into its demonstration phase as a Pilot Project under Ocean.US. Elements of the international community are in the process of organizing GODAE. Demonstrating the utility of near-real-time data assimilation in an operational setting would provide critical feedback needed to justify the continuance of basin-scale ocean observing and prediction/estimation systems over the long term.

SUPPLEMENTARY INFORMATION: Items (a) or (b) or (c) above must be the primary focus of this effort.

Funding Availability

Actual funding levels will depend upon the final budget appropriations. This Program Announcement is for a program to be conducted over a three (nominal) to five (with options) year period, by investigators both inside and outside the Federal Government. It is expected, though not certain, that two or more programs involving multiple investigators will be funded, with possible coalescence or down-selection for the Option years 4 and 5. In accordance with the NOPP, team efforts among academia, industry, and government participants are very strongly encouraged; the degree of inter-sector teaming is a selection criteria. For Federal Government investigators, funding will be provided through intra- or interagency transfers, as appropriate. The funding instrument for extramural awards will be a grant unless it is anticipated that NOAA will be substantially involved in the implementation of the project, in which case the funding instrument could be a cooperative agreement. Examples of substantial NOAA involvement may include, but are not limited to, proposals for collaboration between NOAA or NOAA scientists and a recipient scientist or technician and/or contemplation by NOAA of detailing Federal personnel to work on proposed projects. NOAA will make decisions regarding the use of a cooperative agreement on a case-by-case basis.

III. Eligibility

Extramural eligibility is not limited. Eligible applicants include institutions of higher education, other non-profits, commercial organizations, international organizations, state, local and Indian tribal governments. Applications from non-Federal and Federal applicants will be competed against each other.

Please Note: Before non-NOAA Federal applicants may be funded, they must demonstrate that they have legal authority to receive funds from another Federal agency in excess of their appropriation. The only exception to this is governmental research facilities for awards issued under the authority of 49 U.S.C. 44720. Because this announcement is not proposing to procure goods or services from applicants, the Economy Act (31 U.S.C. 1535) is not an appropriate legal basis.

IV. Evaluation Criteria

Evaluations of the proposals will use the following selection criteria:

1. Relevance of the proposed program to NOPP objectives, including (30%):

a. Support of critical research objectives or operational goals that meet NOPP and participating federal agency requirements,

b. Broad participation within the oceanographic community,

c. Partners with a long-term commitment to the proposed objectives,

d. Resources are shared among partners, and

e. Active involvement of one or more operational centers.

2. Overall technical merits of the proposal (30%), including:

a. Demonstration of the utility of near-real-time data assimilation in operational settings;

b. Coordination and/or collaboration with existing operationally oriented efforts;

c. Feedback mechanisms between assimilation efforts and data set providers;

d. Collaborative activities with international efforts providing mutual benefits to both.

3. The offeror's capabilities, related experience, and facilities or unique combinations of these that are critical to the program's objectives (10%).

4. The qualifications and experience of the proposed principal investigator(s) and key personnel (10%).

5. The degree of significant partnering among at least two of the following parties, academia, industry or government (10%).

6. Realism and duration of the proposed costs (10%).

The proposed program shall produce substantive results in no more than three years to allow review and decisions on any proposed options for extension to years four and five. Non-productive programs will be considered for termination at the end of three years, regardless of any options.

V. Selection Procedures

The review process will be conducted by the NOPP Program Office on behalf of the NOPP agencies. A description of the NOPP Proposal Review Process can be found at: http://www.nopp.org/Dev2Go.web?id=236688&rnd=31591. All proposals, including those submitted by NOAA employees, will be evaluated similarly. The process uses peer reviews solicited by mail and/or a panel. Federal conflict of interest rules are followed. The individuals who provide peer review are scientists drawn from academic, government, and industrial/commercial communities. Mail reviews require a scoring in accordance with the criteria presented in Section IV, Evaluation Criteria, as well as a narrative assessment. If a panel is convened along with soliciting mail reviews, it will take the results of the mail reviews and rate the proposals into three Tiers (1—Strong Proposal, fundable with no significant issues; 2—Strong Proposal, fundable with issues to be resolved; 3—Not Recommended). The ratings will be determined by a vote of the Panel on each proposal individually with the Tier assigned according to the highest number of votes received.

In the event of a tie between two or three tiers, the proposal will be assigned to the highest rated Tier of the Tiers that tied for the highest number of votes. If only a panel is convened, it will both score the proposals numerically in accordance with the criteria in Section IV and rate the proposals into tiers. No consensus advice will be given by the Panel (unless the panel is composed entirely of Federal employees.) The recommendations and evaluations of the panel will be considered by the NOPP Interagency Working Group along with the following program policy factors:

a. Availability of funding;

b. Duplication of on-going Federal support;

c. Duplication with other applications in the solicitation;

d. Geographic diversity;

e. Diversity among the types of institutions receiving awards;

f. Collaboration among multiple jurisdictions; and

g. Subject area diversity within the competition.

The recommendations of the participating funding agencies will be forwarded to the National Ocean Research Leadership Council for final selection(s) based on the program policy factors given above. Any proposal within Tier One or Tier Two may be selected for award. The Program Manager(s) in the agencies will also recommend the total duration of funding and the amount of funding for each partner in the proposal. Unsatisfactory performance by a recipient under prior Federal awards may result in an application not being considered for funding.

VI. Instruction for Application

What To Submit

Letter of Intent (LOI)

To prevent the expenditure of effort that may not be successful, it is in the best interest of applicants to submit letters of intent, however, it is not a requirement. Letters of Intent (LOI) must be sent by electronic mail. The following information should be included:

(1) The LOI should clearly identify the program area being addressed by starting the project title with “U.S. GODAE:” Principal Investigators and collaborators should be identified by affiliation and contact information. The total amount of Federal funds being requested should be listed for each budget year for each collaborator's institution.

(2) A concise (2-page limit) description of the program including a brief summary of the work to be completed, methodology to be used, approximate costs of the major elements (salaries and benefits, direct costs, and travel). Evaluation will be by NOPP agency program management. Projects deemed suitable during Letters of Intent (LOI) review will be encouraged within 15 days to submit full proposals; projects may also be discouraged from submitting full proposals, but investigators may still do so if they wish.

(3) Resumes (1-page limit each) of the Principal Investigators.

Full Proposal Guidelines

Each full proposal must include the first seven items listed below; the standard forms included as Item 8 will only be required for proposal(s) selected for funding. All pages should be single-or double-spaced, typewritten in at least a 10-point font, and printed on metric A4 (210 mm x 297 mm) or 8½” x 11” paper. Brevity will assist reviewers and program staff in dealing effectively with proposals, therefore, the Program Description may not exceed 15 pages. Tables and visual materials, including figures, charts, graphs, maps, photographs and other pictorial presentations are included in the 15-page limitation; literature citations and letters of support, if any, are not included in the 15-page limitation. Conformance to the 15-page limitation will be strictly enforced. All information needed for review of the proposal should be included in the main text; no appendices, other than support letters, if any, are permitted. Failure to adhere to the above limitations will result in the proposal being rejected without review.

(1) Signed Title Page: The title page should be signed by the Principal Investigator(s) and the institutional representative and should clearly identify program by starting the title “U.S. GODAE:” The Principal Investigator and institutional representative should be identified by full name, title, organization, telephone number, and address. The total amount of Federal funds being requested should be listed for each year of the program; the total should include all collaborator's budgets on projects involving multiple institutions, even if one of the collaborators is a Federal institution.

(2) Abstract: An abstract must be included and should contain an introduction of the problem, rationale and a brief summary of work to be completed. The abstract should appear on a separate page, headed with the proposal title, institution(s) investigator(s), total proposed cost and budget period.

(3) Program Description/Work Statement (15-page limit): The Program Description should include identification of the problem, objectives of the work, relevance to the operational prediction mission, proposed implementation strategy, and proposed methodology. The following elements should be described in detail:

(a) Approach: The Project should demonstrate the implications of real-time ocean data assimilation into operational analysis and forecast models, or into analysis and forecast systems that are running in an operational mode. It should facilitate the process of acceptance of such assimilation by one or more operational entities, entraining the operational entity(ies) working on a 24/7 basis. Approaches that propose work independent of operational activities, such that a “hand-off” is proposed at the end of the project will not be deemed responsive to this call.

(b) Data Management: It should illustrate how real-time (within 24 hour) delivery of products will be achieved, although longer-delivery times (with, for example, more quality control) may be acceptable in addition but not instead, for some products.

(4) Budget and Budget Justification: There should be a separate budget for each year of the project as well as a cumulative annual budget for the entire project. Subcontracts should have a separate budget page. Applicants should provide justification for all budget items in sufficient detail to enable the reviewers to evaluate the appropriateness of the funding requested.

(5) Current and Pending Support: Information on the number of person-months per year devoted to this project and ongoing projects regardless source of support (Federal, State, or local government agencies, private foundations, industrial or other commercial organizations) by the Principal Investigator and other senior personnel must be listed. Similar information must be provided for all proposals already submitted or submitted concurrently to other possible sponsors, including those within NOAA.

(6) Vitae (2 pages maximum per investigator): Abbreviated curriculum vitae are sought with each proposal. Reference lists should be limited to all publications in the last three years with up to five other relevant papers.

(7) Results from prior research: The results of related projects supported by NOAA and other agencies should be described, including their relation to the currently proposed work. Reference to each prior research award should include the title, agency, award number, Principal Investigators, and total award. The section should be a brief summary and should not exceed two pages total.

(8) Standard Application Forms: For proposal(s) selected for funding, the following forms must also be submitted: Standard Forms 424, Application for Federal Assistance, and 424B, Assurances-Non-Construction Programs, (Rev 4-88). Please note that both the Principal Investigator and an administrative contact should be identified in Section 5 of the SF424. For Section 10, for proposals selected for funding by NOAA, applicants should enter “11.431”' for the CFDA Number and “Climate and Atmospheric Research” for the title. The form must contain the original signature(s) of an authorized representative of the applying institution(s).

(DOC/NOAA) is strongly committed to broadening the participation of Historically Black Colleges and Universities (HBCU), Hispanic Serving Institutions (HIS), and Tribal Colleges and Universities (TCU) in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs. Institutions eligible to be considered MSIs are listed at the following Internet Web site: http://www.ed.gov/offices/OCR/99minin.html.

The Department of Commerce Pre-Award Notification of Requirements for Grants and Cooperative Agreements contained in the Federal Register notice of October 1, 2001 (66 FR 49917), as amended by the Federal Register notice published on October 30, 2002 (67 FR 66109), is applicable to this solicitation.

Applications under this program are not subject to Executive Order (EO) 12372, “Intergovernmental Review of Federal Programs.

This notice has been determined to be not significant for purposes of E.O. 12866.

It has been determined that this notice does not contain policies with Federalism implications as that term is defined in EO 13132.

Notice and comment are not required under 5 U.S.C. 553(a)(2), or any other law, for notices relating to public property, loans, grants, benefits or contracts. Because notice and comment are not required, a Regulatory Flexibility Analysis, 5 U.S.C. 601 et seq., is not required and has not been prepared for this notice.

This documents contains collection-of-information requirements subject to the Paperwork Reduction Act (PRA). The use of Standard Forms 424 and 424B have been approved by OMB under the respective control numbers 0348-0043 and 0348-0040.

Notwithstanding any other provision of law, no person is required to respond to, nor shall any person be subject to a penalty for failure to comply with a collection of information subject to the Paperwork Reduction Act unless that collection displays a currently valid OMB Control Number.

Louisa Koch,
Acting Assistant Administrator, Office of Oceanic and Atmospheric Research, National Oceanic and Atmospheric Administration.

[FR Doc. 02-31195 Filed 12-10-02; 8:45 am]

BILLING CODE 3510-KD-P